SECURITIES AND EXCHANGE COMMISSION

[File No. 500-1]

George Foreman Enterprises, Inc., MacKay Life Sciences, Inc., Reinsurance Technologies, Ltd. (a/k/a Solution Technology International, Inc.), Tire International Environmental Solutions, Inc., WatchIt Technologies, Inc., Weststar Financial Services Corporation, and WorldSpace, Inc.; Order of Suspension of Trading

March 11, 2014.

It appears to the Securities and Exchange Commission that there is a lack of current and accurate information concerning the securities of George Foreman Enterprises, Inc. because it has not filed any periodic reports since the period ended September 30, 2011.

It appears to the Securities and Exchange Commission that there is a lack of current and accurate information concerning the securities of MacKay Life Sciences, Inc. because it has not filed any periodic reports since the period ended June 30, 2010.

It appears to the Securities and Exchange Commission that there is a lack of current and accurate information concerning the securities of Reinsurance Technologies, Ltd. (a/k/a Solution Technology International, Inc.) because it has not filed any periodic reports since the period ended September 30, 2007.

It appears to the Securities and Exchange Commission that there is a lack of current and accurate information concerning the securities of Tire International Environmental Solutions, Inc. because it has not filed any periodic reports since the period ended June 30, 2011.

It appears to the Securities and Exchange Commission that there is a lack of current and accurate information concerning the securities of WatchIt Technologies, Inc. because it has not filed any periodic reports since the period ended March 31, 2008.

It appears to the Securities and Exchange Commission that there is a lack of current and accurate information concerning the securities of Weststar Financial Services Corporation because it has not filed any periodic reports since the period ended September 30, 2010.

It appears to the Securities and Exchange Commission that there is a lack of current and accurate information concerning the securities of WorldSpace, Inc. because it has not filed any periodic reports since the period ended June 30, 2008.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on March 11, 2014, through 11:59 p.m. EDT on March 24, 2014.

By the Commission.
Jill M. Peterson,
Assistant Secretary.

[FR Doc. 2014-05631 Filed 3-11-14; 4:15 pm]

BILLING CODE 8011-01-P